FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Monarch Logistics LLC., 41 Los Altos Road, Orinda, CA 94563-1701. Officer: William C. Hughes, CEO, (Qualifying Individual).

Fargo Group Inc., 1611 W. Rosecrans Avenue, Gardena, CA 90249. Officers: Donna Liyun Lee, Vice President, (Qualifying Individual), Ann S. Yan, Vice President.

A.O.T. Gulf Ltd., 15402 Vantage Parkway E., Suite 314, Houston, TX 77032. Officer: Nikki Almond, Branch Manager, (Qualifying Individual).

Starbridge U.S.A. Corporation dba Worldwide Shipping Agency, 1121 S. Military Trail, #363, Deerfield Beach, FL 33442. Officer: Charlotte Pejcinovic, President, (Qualifying Individual).

Non-Vessel Operating Common Carrier and Ocean Freight Forwarder Transportation Intermediary Applicants:

Global Cargo Alliance, Corp., 1861 NW 97th Avenue, Miami, FL 33172. Officers: Samira Marino, General Director, (Qualifying Individual), Jamil Atallah, President.

Dated: November 7, 2003.
Bryant L. VanBrakle,
Secretary.

[FR Doc. 03-28445 Filed 11-12-03; 8:45 am]

BILLING CODE 6730-01-P